GENERAL SERVICES ADMINISTRATION

41 CFR Part 102-117

[FMR Amendment 2010-03; FMR Case 2010-102-2; Docket Number 2010-0011, sequence 1]

RIN 3090-AJ03

Federal Management Regulation; Transportation Management

AGENCY: Office of Governmentwide Policy, General Services Administration (GSA).

ACTION: Final rule.

SUMMARY: The General Services Administration (GSA) is amending the Federal Management Regulation (FMR) by updating its coverage on transportation management. This final rule updates definitions and corrects mailing and Web site addresses.

DATES: Effective Date: This final rule is effective August 20, 2010.

FOR FURTHER INFORMATION CONTACT: The Regulatory Secretariat, Room 4041, GS Building, Washington, DC 20405, (202) 501-4755, for information pertaining to status or publication schedules. For clarification of content, contact Patrick O'Grady at (202) 208-4493. Please cite FMR case 2010-102-2, Amendment 2001-03.

SUPPLEMENTARY INFORMATION:

A. Background

Part 102-117 of the Federal Management Regulation (FMR) (41 CFR part 102-117, Transportation Management) was last reviewed and amended in 2004. GSA collaborated with eight agencies to conduct a review and determine if 41 CFR part 102-117 is still current and accurate. This final rule reflects the changes recommended by GSA and the other eight agencies.

B. Substantive changes

This final rule—

• Revises the definitions of the following terms: Accessorial charges, Agency, Consignor, Detention, Government Bill of Lading; and

• Revises addresses and Web sites for the GSA Federal Acquisition Service (FAS) and other GSA business lines that were reorganized, as well as the Department of Transportation, Maritime Administration (MARAD).

C. Executive Order 12866

GSA has determined that this final rule is a significant regulatory action for the purposes of Executive Order 12866.

D. Regulatory Flexibility Act

This final rule will not have a significant economic impact on a substantial number of small entities within the meaning of the Regulatory Flexibility Act, 5 U.S.C. 601, et seq., because the revisions are not considered substantive. This final rule is also exempt from the Regulatory Flexibility Act per 5 U.S.C. 553(a)(2) because it applies to agency management.

E. Paperwork Reduction Act

The Paperwork Reduction Act does not apply because the changes to the FMR do not impose information collection requirements that require the approval of the Office of Management and Budget under 44 U.S.C. 3501.

F. Small Business Regulatory Enforcement Fairness Act

This final rule is exempt from Congressional review under 5 U.S.C. 801 since it relates solely to agency management and personnel.

List of Subjects in 41 CFR Part 102-117

Accounting, Claims, Reporting and recordkeeping requirements, Transportation.

Dated: April 21, 2010.
Martha Johnson,
Administrator of General Services.

For the reasons set forth in the preamble, GSA amends 41 CFR part 102-117 as set forth below:

PART 102-117—TRANSPORTATION MANAGEMENT

1. The authority citation for 41 CFR part 102-117 continues to read as follows:

Authority: 31 U.S.C. 3726; 40 U.S.C. 481, et seq.

2. Amend § 102-117.25 by—

a. Revising the definitions of the terms “Accessorial charges”, “Agency”, “Consignor”, “Detention”, and “Government bill of lading”; and

b. Amending the term “Hazardous material” by adding “(HAZMAT)” to read as follows:

§ 102-117.25 What definitions apply to this part?

* * * * *

Accessorial charges means charges that are applied to the base tariff rate or base contract of carriage rate. Examples of accessorial charges are:

(1) Bunkers, destination/delivery, container surcharges, and currency exchange for international shipments.

(2) Inside delivery, redelivery, re-consignment, and demurrage or detention for freight.

(3) Packing, unpacking, appliance servicing, blocking and bracing, and special handling for household goods.

Agency means an executive department or independent establishment in the executive branch of the Government, and a wholly owned Government corporation.

* * * * *

Consignor, also referred to as the shipper, is the person or firm that ships freight or household goods to a consignee.

* * * * *

Detention is the penalty charge to an agency for delaying the agreed time to load or unload shipments by truck TSPs. It is also a penalty charge in some ocean shipping contracts of carriage that take effect after the demurrage time ends.

* * * * *

Government bill of lading (GBL) is the transportation document used as a receipt of goods, evidence of title, and a contract of carriage for Government international shipments.

* * * * *

Hazardous material (HAZMAT) * * *

* * * * *

3. Amend § 102-117.35 by—

a. Removing from paragraph (a)(2) the word “and”;

b. Removing from paragraph (a)(3) the period and adding “; and” in its place;

c. Adding paragraph (a)(4);

d. Revising paragraph (b)(2);

e. Amending paragraph (b)(3) by removing the period and adding “; and”; and

f. Adding paragraph (b)(4).

The added and revised text reads as follows:

§ 102-117.35 What are the advantages and disadvantages of using GSA's tender of service?

(a) * * *

(4) Use GSA's Transportation management and operations expertise.

(b) * * *

(2) You have sufficient time to follow FAR contracting procedures and are in position to make volume or shipment commitments under a FAR contract;

* * * * *

(4) Rates are not cost effective, as determined by the agency.

4. Amend § 102-117.45 by—

a. Removing from paragraph (b) the word “and”;

b. Removing from paragraph (c) the period and adding “; and”; and

c. Adding paragraph (d) to read as follows:

§ 102-117.45 What other factors must I consider when using another agency's contract or rate tender?

* * * * *

(d) Ensure that the agency offering this service has the authority or a delegation of authority from GSA to offer such services to your agency.

5. Amend § 102-117.50 by—

a. Removing from paragraph (b)(1) the word “or”;

b. Removing from paragraph (b)(2) the period and adding “; or” in its place; and

c. Adding paragraph (b)(3) to read as follows:

§ 102-117.50 What are the advantages and disadvantages of contracting directly with a TSP under the FAR?

* * * * *

(b) * * *

(3) Do not have the manpower to monitor quality control and administer a contract.

6. Amend § 102-117.55 by—

a. Removing from paragraph (a)(1) the word “or”;

b. Removing from paragraph (a)(2) the period and adding “; or” in its place; and

c. Adding paragraph (a)(3) to read as follows:

§ 102-117.55 What are the advantages and disadvantages of using a rate tender?

(a) * * *

(3) Are not in a position to make a definite volume and shipment commitment under a FAR contract.

* * * * *

7. Amend § 102-117.65, paragraph (f), by revising the mailing address and Web site to read as follows:

§ 102-117.65 What terms and conditions must all rate tenders or contracts include?

* * * * *

(f) * * *

General Services Administration, Office of Travel and Transportation Services, Transportation Audit Division (QMCA), 2200 Crystal Drive, Room 300, Arlington, VA 22202, http://www.gsa.gov/transaudits.

8. Amend § 102-117.85 by—

a. Removing from paragraph (a) “1103 and 1203” and adding “1103 or 1203” in its place;

b. Revising paragraph (b);

c. Redesignating paragraph (c) as paragraph (d); and

d. Adding a new paragraph (c) to read as follows:

§ 102-117.85 What is the difference between a Government bill of lading (GBL) and a bill of lading?

* * * * *

(b) A GBL is used only for international shipments.

(c) A bill of lading, sometimes referred to as a commercial bill of lading, establishes the terms of contract between a shipper and TSP. It serves as a receipt of goods, a contract of carriage, and documentary evidence of title.

* * * * *

9. Revise § 102-117.90 to read as follows:

§ 102-117.90 May I use a U.S. Government bill of lading (GBL) to acquire freight, household goods or other related transportation services?

You may use the Government bill of lading (GBL) only for international shipments (including domestic offshore shipments).

10. Revise § 102-117.95 to read as follows:

§ 102-117.95 What transportation documents must I use to acquire freight, household goods or other related transportation services?

(a) Bills of lading and purchase orders are the transportation documents you use to acquire freight, household goods shipments, and other transportation services. Terms and conditions in § 102-117.65 and the “U.S. Government Freight Transportation Handbook” are still required. For further information on payment methods, see part 102-118 of this chapter (41 CFR part 102-118).

(b) Government bills of lading (GBLs) are optional transportation documents for international shipments (including domestic offshore shipments).

11. Revise § 102-117.105 to read as follows:

§ 102-117.105 What does best value mean when routing a shipment?

Best value to your agency when routing a shipment means using the mode or individual TSP that provides satisfactory service with the best combination of service factors and price that meets the agency's requirements. A lower price may not be the best value if the service offered fails to meet the requirements of the shipment.

12. Amend § 102-117.110 by—

a. Revising paragraph (f);

b. Amending paragraph (g) by removing the word “and” from the end of the sentence;

c. Removing from paragraph (h) the period and adding a semicolon in its place; and

d. Adding paragraphs (i) and (j) to read as follows:

§ 102-117.110 What is satisfactory service?

* * * * *

(f) Record of past performance of the TSP, including accuracy of billing and past performance record with Government agencies;

* * * * *

(i) The TSP's safety record; and

(j) The TSP's loss and damage record, including claims resolution.

13. Revise § 102-117.115 to read as follows:

§ 102-117.115 How do I calculate total delivery costs?

You calculate total delivery costs for a shipment by considering all costs related to the shipping or receiving process, such as packing, blocking, bracing, drayage, loading and unloading, and transporting. Surcharges such as fuel, currency exchange, war risk insurance, and other surcharges should also be factored into the costs.

14. Amend § 102-117.135 by revising the address and Web site in paragraph (b), and adding a sentence at the end of the Note to § 102-117.135 (b) to read as follows:

§ 102-117.135 What are the international transportation restrictions?

* * * * *

(b) * * *

Department of Transportation, Maritime Administration, Office of Cargo Preference, 1200 New Jersey Ave. SE., Washington, DC 20590, http://marad.dot.gov/. Tel. 1-800-987-3524. E-mail: cargo.marad@dot.gov.

Note to § 102-117.135(b): * * * They should be attached to the underlying ocean carrier bill of lading.

15. Amend § 102-117.140 by revising the address and Web site at the end of the paragraph to read as follows:

§ 102-117.140 What is cargo preference?

* * * * *

Department of Transportation, Maritime Administration, Office of Cargo Preference, 1200 New Jersey Ave., SE., Washington, DC 20590, http://marad.dot.gov/. Tel. 1-800-987-3524. E-mail: cargo.marad@dot.gov.

16. Amend § 102-117.150 by revising paragraph (a) to read as follows:

§ 102-117.150 What do I need to know about coastwise laws?

* * * * *

(a) Goods transported entirely or partly by water between U.S. points, either directly or via a foreign port, must travel in U.S. flag vessels that have a coastwise endorsement;

* * * * *

§ 102-117.155 [Amended]

17. Amend § 102-117.155 by adding “(800-987-3524 or www.cargo.marad@dot.gov)” after “MARAD”.

18. Amend § 102-117.180 by revising paragraphs (b) and (c) to read as follows:

§ 102-117.180 What transportation documents must I use to ship freight?

* * * * *

(b) By land (international shipments), you may, but are not required to, use the optional GBL;

(c) By ocean, use an ocean bill of lading, when suitable, along with the GBL. You only need an ocean bill of lading for door-to-door movements; and

* * * * *

19. Amend § 102-117.240 by revising the note at the end of the section to read as follows:

§ 102-117.240 What is my agency's financial responsibility to an employee who chooses to move all or part of his/her HHG under the commuted rate system?

* * * * *

Note to § 102-117.240: For information on how to ship household goods, refer to the Federal Travel Regulation, 41 CFR part 302-7, Transportation and Temporary Storage of Household Goods and Professional Books, Papers, and Equipment (PBP&E).

20. Amend § 102-117.300 by revising paragraph (b) to read as follows:

§ 102-117.300 Do the decisions on temporary nonuse, suspension and debarment go beyond the agency?

* * * * *

(b) Decisions on suspended or debarred TSPs do go beyond the agency and are available to the general public on the Excluded Parties Lists System (EPLS) maintained by GSA at http://www.epls.gov.

21. Revise § 102-117.315 to read as follows:

§ 102-117.315 Whom must I notify on suspension or debarment of a TSP?

Agencies must report electronically any suspension or debarment actions to the Excluded Parties List System: http://www.epls.gov in accordance with the provisions of 48 CFR 9.404(c).

102-117.335 [Amended]

22. Amend § 102-117.335 by removing “Office of Transportation and Personal Property (MT)” and adding “Office of Travel, Transportation and Asset Management (MT)” in its place.

23. Amend § 102-117.340, paragraph (b), by revising the mailing address to read as follows:

§ 102-117.340 What other types of assistance may GSA provide agencies in dealing with regulatory bodies?

* * * * *

(b) * * *

General Services Administration, Office of Travel and Transportation Services, Center for Transportation Management (QMCC), 2200 Crystal Drive, Rm. #3042, Arlington, VA 20406.

24. Amend § 102-117.345 by removing from paragraph (a) “Currently, there” and adding the word “There” in its place, and by removing the last sentence of the paragraph.

25. Amend § 102-117.355 by revising paragraph (b) to read as follows:

§ 102-117.355 What is the Governmentwide Transportation Policy Council (GTPC)?

* * * * *

(b) Provides assistance to your agency with the requirement to report your transportation activity to GSA (see § 102-117.345).

§ 102-117.360 [Amended]

26. Amend § 102-117.360 by removing “Office of Transportation and Personal Property (MT)” and adding “Office of Travel, Transportation and Asset Management (MT)” in its place.

[FR Doc. 2010-20604 Filed 8-19-10; 8:45 am]

BILLING CODE 6820-14-P